ENVIRONMENTAL PROTECTION AGENCY

[FRL-7465-6]

Meetings of the Drinking Water Contaminant Candidate List Classification Process Work Group of The National Drinking Water Advisory Council

AGENCY: Environmental Protection Agency.

ACTION: Notice of public meetings.

SUMMARY: Under section 10(a)(2) of Public Law 92-423, “The Federal Advisory Committee Act,” notice is hereby given of the forthcoming meetings of the Drinking Water Contaminant Candidate List (CCL) Classification Process Work Group of the National Drinking Water Advisory Council (NDWAC), established under the Safe Drinking Water Act, as amended (42 U.S.C. S300f et seq.).

DATES: The dates for the NDWAC CCL Work Group meetings for the remaining year of 2003 will be as follows: March 27-28, 2003; May 12-13, 2003; July 16-17, 2003; September 17-18, 2003; and November 13-14, 2003. All meetings will be held from 9 a.m.-5 p.m. Eastern Time on the first day, and 8 a.m.-3:30 p.m. Eastern Time on the second day. Notice will be given if any dates change as the work group proceeds through the year.

ADDRESSES: All meetings of the CCL Work Group will be held at RESOLVE Inc., 1255 23rd Street, NW., Suite 275, Washington, DC.

FOR FURTHER INFORMATION CONTACT: For more information on the location and times of these meetings, or general background information, please contact the Safe Drinking Water Hotline [phone: (800) 426-4791 or (703) 412-3330; e-mail: hotline-sdwa@epa.gov]. Please contact RESOLVE if you plan to attend any of the meetings listed at (202) 944-2300. Any person needing special accommodations at any of these meetings, including wheelchair access, should also contact RESOLVE (contact information previously noted) at least five business days before the meeting so that appropriate arrangements can be made. For technical information, please contact Dr. Jitendra Saxena, Designated Federal Officer, CCL Classification Process Work Group, U.S. Environmental Protection Agency, Office of Ground Water and Drinking Water (4607M), 1200 Pennsylvania Avenue, NW., Washington, DC 20460 [e-mail: saxena.jitendra@epa.gov; Tel. (202) 564-5243].

SUPPLEMENTARY INFORMATION: The CCL serves as the primary source of priority contaminants for research and regulatory evaluations for the Agency's drinking water program. The list is comprised of both chemical and microbial contaminants that are known or anticipated to occur in public water systems, that may have adverse health effects, and which, at the time of publication, are not subject to any proposed or promulgated National Primary Drinking Water Regulations. EPA has formed a CCL Classification Process Work Group of the National Drinking Water Advisory Council (NDWAC) to help the Agency in developing a new risk based priority setting process based upon the recommendations made by the National Research Council (NRC) in its 2001 report.

The work group is comprised of 21 recognized technical experts representing an array of backgrounds and perspectives who are as impartial and objective as possible. The work group is charged with discussing, evaluating, and providing advice on methodologies, activities, and analysis needed to implement the NRC recommendations on an expanded approach for the CCL listing process. This may include advice on developing and identifying: (1) Overall implementation strategy; (2) prototype classification methodology, classification attributes and criteria that should to be used; (3) pilot projects to validate new classification approaches; (4) demonstration studies that explore the feasibility of the VFAR (Virulance-Factor Activity Relationships) approach; (5) risk communication issues; and (6) additional issues not addressed in the NRC report.

The work group has held three meetings thus far: September 18-19, 2002, December 16-17, 2002, and February 5-6, 2003. The September meeting was devoted to gaining understanding of the NRC recommendations from the invited members of the NRC panel, identifying questions, issues and technical expertise needed to fulfill its charge, and planning next steps. During subsequent meetings, the work group formed three activity groups for small group discussions each containing 4-8 members. The three activity groups are: Data Activity Group, Methods Activity Group, and VFAR Activity Group. Each group holds several conference calls for group discussions in between the plenary meetings. The work group has discussed the methods and data to be used for selecting contaminants for the CCL, and the VFAR concept and how the concept can be included in the CCL classification process. In addition, the work group has developed the groups's guiding principles and work plan and identified additional technical needs.

The meetings are open to the public for observation purposes only. Statements from the public will be allowed at the close of each meeting day. EPA is not soliciting written comments and is not planning to formally respond to comments.

Dated: March 6, 2003.
Peter Shanaghan,
Acting Director, Office of Ground Water and Drinking Water.

[FR Doc. 03-5910 Filed 3-11-03; 8:45 am]

BILLING CODE 6560-50-P